DEPARTMENT OF TRANSPORTATION

Federal Aviation Administration

14 CFR Part 39

[Docket No. 98-NM-314-AD; Amendment 39-11884; AD 2000-17-10]

RIN 2120-AA64

Airworthiness Directives; Lockheed Model L-1011-385 Series Airplanes

AGENCY: Federal Aviation Administration, DOT.

ACTION: Final rule.

SUMMARY: This amendment adopts a new airworthiness directive (AD), applicable to all Lockheed Model L-1011-385 series airplanes, that requires modifications of the engine turbine cooling air panel at the flight engineer/second officer's console, pilot's caution and warning light panel on the main instrument panel, and monitoring system for the engine turbine air temperature. This amendment is prompted by reports of an undetected fire breaching the high speed gearbox (HSGB) case on certain Rolls Royce engines installed on in-service airplanes due to lack of an internal fire detection system within the HSGB. The actions specified by this AD are intended to prevent undetected fires originating within the HSGB from breaching the HSGB case, which could result in engine damage and increased difficulty in extinguishing a fire.

DATES: Effective October 6, 2000.

The incorporation by reference of certain publications listed in the regulations is approved by the Director of the Federal Register as of October 6, 2000.

ADDRESSES: The service information referenced in this AD may be obtained from Lockheed Martin Aircraft & Logistics Center, 120 Orion Street, Greenville, South Carolina 29605. This information may be examined at the Federal Aviation Administration (FAA), Transport Airplane Directorate, Rules Docket, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

FOR FURTHER INFORMATION CONTACT: Thomas Peters, Aerospace Engineer, Systems and Flight Test Branch, ACE-116A, FAA, Atlanta Aircraft Certification Office, One Crown Center, 1895 Phoenix Boulevard, suite 450, Atlanta, Georgia 30349; telephone (770) 703-6063 fax (770) 703-6097.

SUPPLEMENTARY INFORMATION: A proposal to amend part 39 of the Federal Aviation Regulations (14 CFR part 39) to include an airworthiness directive (AD) that is applicable to all Lockheed Model L-1011-385 series airplanes was published in the Federal Register on November 22, 1999 (64 FR 63755). That action proposed to require modifications of the engine turbine cooling air panel at the flight engineer/second officer's console, pilot's caution and warning light panel on the main instrument panel, and monitoring system for the engine turbine air temperature.

Interested persons have been afforded an opportunity to participate in the making of this amendment. Due consideration has been given to the comments received.

Support for the Proposal

One commenter supports the proposal.

Request To Extend the Compliance Time

Two commenters support the intent of the proposed AD, but request that the compliance time for the proposed modification be extended from 24 months, as specified in the proposal, to 36 months. One of the commenters states that in-service statistics indicate that the rate at which the unsafe condition (i.e., fire burn through from the high speed gear box) arises occurs on the order of 10−⁷ per airplane flying hour. The other commenter contends that, because of the low risk of the identified unsafe condition occuring and the average airplane usage, safety would not be compromised by extending the compliance time.

The FAA does not concur with the commenters' requests to extend the compliance time. In developing an appropriate compliance time for this action, the FAA considered not only the degree of urgency associated with addresssing the subject unsafe condition, but the practical aspect of accomplishing the work necessary to perform the modifications (estimated at 24 work hours in the proposal). In consideration of these items, the FAA has determined that 24 months represents an appropriate interval of time allowable wherein the modfications can be accomplished during scheduled maintenance intervals for the majority of affected operators, and an acceptable level of safety can be maintained.

Since the Issuance of the Proposal

In the proposed rule, the FAA inadvertently estimated the cost for accomplishing the modifications as $7,790 per airplane, or $911,430 for the affected fleet. Those costs actually reflect the estimated cost of workshours for the airplane but only the parts costs for one engine, rather than for three engines. Additionally, the proposed rule contained a typographical error on the estimated cost of the parts. Instead of $6,350, the correct estimate is $6,320 per engine. The FAA has, therefore, revised this final rule to reflect the correct estimated costs of $2,386,800, or $20,400 per airplane.

Conclusion

After careful review of the available data, including the comments noted above, the FAA has determined that air safety and the public interest require the adoption of the rule with the changes previously described. The FAA has determined that these changes will neither increase the economic burden on any operator nor increase the scope of the AD.

Cost Impact

There are approximately 235 airplanes of the affected design in the worldwide fleet. The FAA estimates that 117 airplanes of U.S. registry will be affected by this AD, that it will take approximately 8 work hours per engine, or 24 work hours per airplane to accomplish the required modifications. The FAA estimates that the average labor rate is $60 per work hour. Required parts will cost approximately $6,320 per engine, or $18,960 per airplane. Based on these figures, the cost impact of the AD on U.S. operators is estimated to be $2,386,800, or $20,400 per airplane.

The cost impact figure discussed above is based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-17-10 Lockheed: Amendment 39-11884. Docket 98-NM-314-AD.

Applicability: All Model L-1011-385 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent undetected fires originating within the high speed gearbox (HSGB) from breaching the HSGB case, which could result in engine damage and increased difficulty in extinguishing a fire, accomplish the following:

Modification

(a) Within 24 months after the effective date of this AD, accomplish the actions specified in paragraphs (a)(1), (a)(2), and (a)(3) of this AD, in accordance with Lockheed Service Bulletin 093-77-059, dated February 25, 1998; or Revision 1, dated February 2, 1999.

(1) Modify the engine turbine cooling air panel at the flight engineer/second officer's console.

(2) Modify the pilot's caution and warning light panel on the main instrument panel.

(3) Modify the monitoring system for the engine turbine air temperature.

Note 2: Lockheed Service Bulletin 093-77-059 refers to Rolls Royce Service Bulletins RB.211-72-C178, dated March 20, 1998; and RB.211-77-C144, dated August 7, 1998; as additional sources of service information for accomplishment of the modification of the monitoring system for the engine turbine air temperature.

Spares

(b) As of the effective date of this AD, no person shall install on any airplane, an engine turbine cooling air panel assembly, part number 1559672, or a pilot's caution and warning light panel assembly on the main instrument panel, unless it has been modified in accordance with paragraphs (a)(1) and (a)(2) of this AD, as applicable.

Alternative Methods of Compliance

(c) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta Aircraft Certification Office (ACO).

Note 3: Information concerning the existence of approved alternative methods of compliance with this AD, if any, may be obtained from the Atlanta ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Lockheed Service Bulletin 093-77-059, dated February 25, 1998; or Lockheed Service Bulletin 093-77-059, Revision 1, dated February 2, 1999. Revision 1 of Lockheed Service Bulletin 093-077-059, contains the following list of effective pages:

Page number | Revision level shown on page | Date shown on page
1, 4 | 1 | February 2, 1999.
2, 3, 5-9 | Original | February 25, 1998.

This incorporation by reference was approved by the Director of the Federal Register in accordance with 5 U.S.C. 552(a) and 1 CFR part 51. Copies may be obtained from Lockheed Martin Aircraft & Logistics Center, 120 Orion Street, Greenville, South Carolina 29605. Copies may be inspected at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

(f) This amendment becomes effective on October 6, 2000.

Issued in Renton, Washington, on August 24, 2000.
Donald L. Riggin,
Acting Manager, Transport Airplane Directorate, Aircraft Certification Service.

[FR Doc. 00-22122 Filed 8-31-00; 8:45 am]

BILLING CODE 4910-13-U